DEPARTMENT OF THE INTERIOR

National Park Service

[NPS-WASO-NRNHL-DTS#-32552; PPWOCRADI0, PCU00RP14.R50000]

National Register of Historic Places; Notification of Pending Nominations and Related Actions

AGENCY: National Park Service, Interior.

ACTION: Notice.

SUMMARY: The National Park Service is soliciting electronic comments on the significance of properties nominated before August 28, 2021, for listing or related actions in the National Register of Historic Places.

DATES: Comments should be submitted electronically by September 27, 2021.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 28, 2021. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

FLORIDA

Pinellas County

North Ward School, 900 North Fort Harrison Ave., Clearwater, SG100007057

Taylor County

Mittendorf House, 803 Riverside Dr., Steinhatchee, SG100007050

MISSISSIPPI

Lee County

Tupelo Downtown Neighborhood Historic District, Roughly bounded by East Jackson, North Spring, Main, West Jefferson, and North, Gloster Sts., Tupelo, SG100007053

MISSOURI

Cole County

Orchard Acres, 2113 West Main St., Jefferson City, SG100007040

Simonsen School, 501 East Miller St., Jefferson City, SG100007041

Jackson County

Firestone Tire and Rubber Company Service Station, 1112 East Linwood Blvd., Kansas City, SG100007044

Jasper County

Memorial Hall, 212 West 8th St., Joplin, SG100007039

St. Charles County

Mueller, Phillip, House, 5372 St. Charles St., Cottleville, SG100007045

St. Louis Independent City, Lutheran Hospital and School of Nursing, 3535 South Jefferson Ave. (primary); 3519-59 South Jefferson Ave., 2611-19 Miami St., St. Louis, SG100007042

PUERTO RICO

Ponce Municipality

La Perla Auditorium and Public Library, Calle Mayor Esq. Cristina, Ponce vicinity, SG100007054

TEXAS

Anderson County

Palestine New Town Commercial Historic District, (Palestine, Texas MPS). Roughly bounded by North Queen, Crawford, North Houston, and Spring Sts., Palestine, MP100007058

VERMONT

Washington County

Waterbury Village Historic District (Boundary Increase/Decrease), North Main, Union, Winooski Sts., Adams Ct., Stowe St., Bidwell Ln., Railroad St., Locust Terr., Swazey Ct., High St., Turner Ct., Hill, South Main, and Elm Sts., Parker Ct., Foundry and, Randall Sts., Park Row, Rotarian Pl., Park St., Moody Ct., Waterbury, BC100007056

Additional documentation has been received for the following resources:

ARKANSAS

Polk County

Shaver, James D., House (Additional Documentation), 501 12th St., Mena, AD79003431

VERMONT

Chittenden County

University Green Historic District (Additional Documentation), Address Restricted, Burlington vicinity, AD75000139

Redstone Historic District (Additional Documentation), 342, 350, 354, 376, 384-392, 406, 420 South Prospect St., Burlington, AD91001614

Washington County

Waterbury Village Historic District (Additional Documentation), North Main, Union, Winooski Sts., Adams Ct., Stowe St., Bidwell Ln., Railroad St., Locust Terr., Swazey Ct., High St., Turner Ct., Hill, South Main, and Elm Sts., Parker Ct., Foundry and, Randall Sts., Park Row, Rotarian Pl., Park St., Moody Ct., Waterbury, AD78000249

Nominations submitted by Federal Preservation Officers:

The State Historic Preservation Officer reviewed the following nomination(s) and responded to the Federal Preservation Officer within 45 days of receipt of the nomination(s) and supports listing the properties in the National Register of Historic Places.

SOUTH CAROLINA

Charleston County

Snee Farm-Charles Pinckney National Historic Site (Boundary Increase), 1254 Long Point Rd., Mount Pleasant, BC100007048

Snee Farm-Charles Pinckney National Historic Site (Additional Documentation), 1254 Long Point Rd., Mount Pleasant, AD73001702

Authority: Section 60.13 of 36 CFR part 60.

Dated: August 31, 2021.
Sherry A. Frear,
Chief, National Register of Historic Places/National Historic Landmarks Program.

[FR Doc. 2021-19518 Filed 9-9-21; 8:45 am]

BILLING CODE 4312-52-P